DEPARTMENT OF COMMERCE

International Trade Administration

[A-489-805; C-489-806]

Notice of Final Results of Changed Circumstances Antidumping and Countervailing Duty Administrative Reviews: Certain Pasta From Turkey

AGENCY: Import Administration, International Trade Administration, Department of Commerce.

ACTION: Notice of final results of changed circumstances antidumping and countervailing duty administrative reviews.

SUMMARY: On April 7, 2003, the Department of Commerce (the Department) published the notice of preliminary results of its changed circumstances reviews examining whether Gidasa Sabanci Gida Sanayi ve Ticaret A.S. (Gidasa) is the successor-in-interest to Maktas Makarnacilik ve Ticaret A.S. (Maktas) for purposes of determining antidumping and countervailing duty liability. (See Notice of Initiation and Preliminary Results of Changed Circumstances Antidumping and Countervailing Duty Administrative Reviews: Certain Pasta from Turkey, 68 FR 16761 (Preliminary Results)). As a result of these reviews, the Department finds that Gidasa is the successor-in-interest to Maktas, and Gidasa should retain the deposit rates assigned to Maktas by the Department in the most recently completed antidumping and countervailing duty administrative reviews.

EFFECTIVE DATE: July 14, 2003.

FOR FURTHER INFORMATION CONTACT: Mark Young or Eric Greynolds (Antidumping) or Jennifer Jones (Countervailing), Office of AD/CVD Enforcement, Import Administration, International Trade Administration, U.S. Department of Commerce, 14th and Constitution Avenue, NW., Washington, DC 20230; telephone: (202) 482-6397, (202) 482-6071, or (202) 482-1664, respectively.

SUPPLEMENTARY INFORMATION:

The Applicable Statute and Regulations

Unless otherwise indicated, all citations to the statute are references to the provisions effective January 1, 1995, the effective date of the amendments made to the Tariff Act of 1930 (the Act) by the Uruguay Round Agreements Act. In addition, unless otherwise indicated, all citations to the Department's regulations refer to the regulations codified at 19 CFR part 351 (2002).

Background

On July 24, 1996, the Department published in the Federal Register the antidumping and countervailing duty orders on pasta from Turkey (61 FR 38545-38547). On February 12, 2003, Gidasa submitted information stating that Gidasa is the successor-in-interest to Maktas and, as such, Gidasa is entitled to receive the same antidumping and countervailing duty treatment as is accorded Maktas. On March 5, 2003, petitioners entered their appearance and objected to an expedited treatment of these changed circumstances reviews on the basis that such treatment would preclude a “full and meaningful” participation of all parties. Subsequently, on March 7, 2003, Gidasa submitted comments on petitioners' objections and provided further support for its expedited treatment request. On April 7, 2003, the Department published the initiation and the preliminary results of its changed circumstances reviews in the above-named case. See Preliminary Results (68 FR 16761). We gave interested parties 30 days to comment on our preliminary results. However, no interested parties have provided comments or requested a hearing.

Scope of the Reviews

Imports covered by these reviews are shipments of certain non-egg dry pasta in packages of five pounds (2.27 kilograms) or less, whether or not enriched or fortified or containing milk or other optional ingredients such as chopped vegetables, vegetable purees, milk, gluten, diastases, vitamins, coloring and flavorings, and up to two percent egg white. The pasta covered by this scope is typically sold in the retail market, in fiberboard or cardboard cartons, or polyethylene or polypropylene bags of varying dimensions.

Excluded from the scope of these reviews are refrigerated, frozen, or canned pastas, as well as all forms of egg pasta, with the exception of non-egg dry pasta containing up to two percent egg white.

The merchandise subject to review is currently classifiable under item 1902.19.20 of the Harmonized Tariff Schedule of the United States (HTSUS). Although the HTSUS subheading is provided for convenience and customs purposes, the written description of the merchandise subject to the orders is dispositive.

Scope Rulings

The Department has issued the following scope ruling to date:

(1) On October 26, 1998, the Department self-initiated a scope inquiry to determine whether a package weighing over five pounds as a result of allowable industry tolerances is within the scope of the antidumping and countervailing duty orders. On May 24, 1999, we issued a final scope ruling finding that, effective October 26, 1998, pasta in packages weighing or labeled up to (and including) five pounds four ounces is within the scope of the antidumping and countervailing duty orders. See Memorandum from John Brinkman to Richard Moreland, dated May 24, 1999, in the case file in the Central Records Unit, main Commerce building, room B-099 (the CRU).

Successorship and Final Results of Reviews

On the basis of the record developed in these changed circumstances reviews, we determine Gidasa to be the successor-in-interest to Maktas for purposes of determining antidumping and countervailing duty liability. For a complete discussion of the basis for this decision see the Preliminary Results (68 FR 16761, April 17, 2003). We received no comments from any party on the Preliminary Results and, therefore, have adopted the same position for these final results. Therefore, Gidasa shall retain the antidumping and countervailing duty deposit rates assigned to Maktas by the Department in the most recent administrative reviews of the subject merchandise. This cash deposit rate is effective for all shipments of the subject merchandise from Gidasa entered, or withdrawn from warehouse, for consumption on or after the publication date of this notice.

This notice also serves as a final reminder to parties subject to administrative protective orders (APOs) of their responsibility concerning the disposition of proprietary information disclosed under APO in accordance with 19 CFR 351.305(a)(3). Failure to timely notify the Department in writing of the return/destruction of APO material is a sanctionable violation.

We are issuing and publishing these results and notice in accordance with sections 751(b)(1) and 777(i)(1) of the Tariff Act of 1930, as amended, and 19 CFR 351.216 and 19 CFR 351.221(c)(3).

Dated: July 8, 2003.
Jeffrey May,
Acting Assistant Secretary for Import Administration.

[FR Doc. 03-17747 Filed 7-11-03; 8:45 am]

BILLING CODE 3510-DS-P